DEPARTMENT OF THE INTERIOR

Office of Surface Mining Reclamation and Enforcement

30 CFR Part 874

[Docket No. OSM-2025-0015; S1D1S SS08011000 SX064A000 256S180110; S2D2S SS08011000 SX064A000 25XS501520]

RIN 1029-AC99

General Reclamation Requirements

AGENCY: Office of Surface Mining Reclamation and Enforcement, Interior.

ACTION: Direct final rule; delay of effective date.

SUMMARY: The Office of Surface Mining Reclamation and Enforcement (OSM) is delaying the effective date of the direct final rule “General Reclamation Requirements,” published on November 28, 2025. The direct final rule revised the Federal regulations to rescind language requiring compliance with the regulations when funding reclamation projects with prior balance replacement funds, which are moneys from the United States Treasury's General Fund that replaced State or Tribal share funds that were allocated before October 1, 2007, but never appropriated by Congress. During the comment period, OSM received comments that require further review and consideration to determine whether they are significant adverse comments warranting a response, withdrawal, or modification of the final rule.

DATES: As of January 27, 2026, the effective date of the direct final rule published November 28, 2025, at 90 FR 54582 is delayed until March 30, 2026.

FOR FURTHER INFORMATION CONTACT: James Tyree, Chief, Division of Regulatory Support, (202) 208-4479, jtyree@osmre.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The direct final rule published at 90 FR 54582 included a 30-day public comment period that ended on December 29, 2025. The effective date of the direct final rule was January 27, 2026.

As explained in the direct final rule, the Federal regulations at 30 CFR 874.11 clarify that States and Tribes must comply with 30 CFR part 874 when funding reclamation projects with prior balance replacement funds, which are moneys from the United States Treasury's General Fund that replaced State or Tribal share funds that were allocated before October 1, 2007, but never appropriated by Congress. As amended in 2006, section 411(h)(1) of the Surface Mining Control and Reclamation Act of 1977 required OSM to distribute prior balance replacement funds to eligible States and Tribes for 7 years, beginning October 1, 2008. As the distribution of prior balance replacement funds is complete, the Department of the Interior (Department) and OSM concluded that existing 30 CFR 874.11(b) should be rescinded because it is obsolete.

The Department and OSM maintain this position. However, at the close of the comment period for the direct final rule, OSM received several comments that may be significant adverse comments. OSM has determined that the effective date of the direct final rule should be delayed by 60 days to allow it additional time to review and consider whether one or more of the comments received on the direct final rule are significant adverse comments warranting a response, withdrawal, or modification of the final rule. OSM recognizes that other direct final rules published on November 24 and 28, 2025, may also be impacted by these comments. During its review, OSM will consider what impact, if any, these comments have on those direct final rules and take appropriate action, as necessary.

Lanny E. Erdos,
Acting Assistant Secretary, Land and Minerals Management.

[FR Doc. 2026-01566 Filed 1-26-26; 8:45 am]

BILLING CODE 4310-05-P